DEPARTMENT OF LABOR

Employment and Training Administration

[TA-W-70,124; TA-W-70,124A]

Hutchinson Technology, Inc., Including On-Site Workers Leased From Doherty, Including Workers Whose Unemployment Insurance (UI) Wages Are Paid Through Aramark Business Facilities, LLC, Hutchinson, MN; Hutchinson Technology, Inc., Including On-Site Workers Leased From Doherty, Including Workers Whose Unemployment Insurance (UI) Wages Are Paid Through Aramark Business Facilities, LLC, Plymouth, MN; Amended Certification Regarding Eligibility To Apply for Worker Adjustment Assistance

In accordance with Section 223 of the Trade Act of 1974, as amended (“Act”), 19 U.S.C. 2273, the Department of Labor issued a Certification of Eligibility to Apply for Worker Adjustment Assistance on September 18, 2009, applicable to workers of Hutchinson Technology, Inc., including on-site leased workers from Doherty, Hutchinson, Minnesota and Hutchinson Technology, Inc., including on-site leased workers of Doherty, Plymouth, Minnesota. The notice was published in the Federal Register on November 5, 2009 (74 FR 57337).

At the request of the petitioners, the Department reviewed the certification for workers of the subject firm. Workers at the Hutchinson, Minnesota location of the subject firm (TA-W-70,124) produce suspension assemblies for computer disk drives. Workers at the Plymouth, Minnesota location of the subject firm produce stampings of components incorporated into finished suspension assemblies produced by workers at the Hutchinson, Minnesota facility.

Information shows that on-site workers from Aramark Business Facilities, LLC became employees of Hutchinson Technology, Inc., in February 2011. Some workers separated from employment at the Hutchinson and Plymouth, Minnesota locations of the subject firm had their wages reported under a separate unemployment insurance (UI) tax account under the name Aramark Business Facilities, LLC.

Accordingly, the Department is amending this certification to properly reflect this matter.

The intent of the Department's certification is to include all workers of Hutchinson Technologies who were adversely affected by increased imports of suspension assemblies for computer disk drives and the components used in the finished suspension assemblies.

The amended notice applicable to TA-W-70,124 and TA-W-70,124A are hereby issued as follows:

All workers of Hutchinson Technology, Incorporated, including on-site leased workers from Doherty, including workers whose unemployment insurance (UI) wages are paid through Aramark Business Facilities, LLC, Hutchinson, Minnesota (TA-W-70,124), and Hutchinson Technology, Incorporated, including on-site leased workers from Doherty, including workers whose unemployment insurance (UI) wages are paid through Aramark Business Facilities, Plymouth, Minnesota (TA-W-70,124A), who became totally or partially separated from employment on or after May 18, 2008 through September 18, 2011, and all workers in the group threatened with total or partial separation from employment on date of certification through two years from the date of certification, are eligible to apply for adjustment assistance under Chapter 2 of Title II of the Trade Act of 1974, as amended.

Signed at Washington, DC this 6th day of June 2011.
Del Min Amy Chen,
Certifying Officer, Office of Trade Adjustment Assistance.

[FR Doc. 2011-14816 Filed 6-14-11; 8:45 am]

BILLING CODE 4510-FN-P